DEPARTMENT OF DEFENSE

GENERAL SERVICES ADMINISTRATION

NATIONAL AERONAUTICS AND SPACE ADMINISTRATION

48 CFR Parts 6, 8, 15, and 52

[FAC 2005-38; Item VII; Docket 2009-0003; Sequence 6]

Federal Acquisition Regulation; Technical Amendments

AGENCIES: Department of Defense (DoD), General Services Administration (GSA), and National Aeronautics and Space Administration (NASA).

ACTION: Final rule.

SUMMARY: This document makes amendments to the Federal Acquisition Regulation in order to make editorial changes.

DATES: Effective Date: December 10, 2009.

FOR FURTHER INFORMATION CONTACT: The Regulatory Secretariat, 1800 F Street, NW., Room 4041, Washington, DC, 20405, (202) 501-4755, for information pertaining to status or publication schedules. Please cite FAC 2005-38, Technical Amendments.

SUPPLEMENTARY INFORMATION: This document makes amendments to the Federal Acquisition Regulation in order to make editorial changes.

List of Subjects in 48 CFR Parts 6, 8, 15, and 52

Government procurement.

Dated: November 30, 2009.
Al Matera,
Director, Acquisition Policy Division.

Therefore, DoD, GSA, and NASA amend 48 CFR parts 6, 8, 15, and 52 as set forth below:

1. The authority citation for 48 CFR parts 6, 8, 15, and 52 continues to read as follows:

Authority: 40 U.S.C. 121(c); 10 U.S.C. chapter 137; and 42 U.S.C. 2473(c).

PART 6—COMPETITION REQUIREMENTS

2. Amend section 6.302-2 by revising paragraph (d) to read as follows:

6.302-2 Unusual and compelling urgency.

(d) Period of Performance. (1) The total period of performance of a contract awarded using this authority—

(i) May not exceed the time necessary—

(A) To meet the unusual and compelling requirements of the work to be performed under the contract; and

(B) For the agency to enter into another contract for the required goods and services through the use of competitive procedures; and

(ii) May not exceed one year unless the head of the agency entering into the contract determines that exceptional circumstances apply.

(2) The requirements in paragraph (d)(1) of this section shall apply to any contract in an amount greater than the simplified acquisition threshold.

(3) The determination of exceptional circumstances is in addition to the approval of the justification in 6.304.

(4) The determination may be made after contract award when making the determination prior to award would unreasonably delay the acquisition.

PART 8—REQUIRED SOURCES OF SUPPLIES AND SERVCES

8.703 [Amended]

3. Amend section 8.703 by removing “http://www.abilityone.gov/jwod/PL.html” and adding “http://www.abilityone.gov/index.html” in its place.

PART 15—CONTRACTING BY NEGOTIATION

15.305 [Amended]

4. Amend section 15.305 by removing from paragraph (a)(5) “15.304(c)(3)(iii)” and adding “15.304(c)(3)(ii)” in its place.

PART 52—SOLICITATION PROVISIONS AND CONTRACT CLAUSES

52.209-6 [Amended]

5. Amend section 52.209-6 by removing from the introductory paragraph “9.409(b)” and adding “9.409” in its place.

52.212-5 [Amended]

6. Amend section 52.212-5, in Alternate I, by removing “12.301(b)(4)” and adding “12.301(b)(4)(i)” in its place.

[FR Doc. E9-28937 Filed 12-9-09; 8:45 am]

BILLING CODE 6820-EP-S